ENVIRONMENTAL PROTECTION AGENCY

[EPA-HQ-OPP-2022-0163; FRL-9408-05-OCSPP]

Pesticide Product Registration; Receipt of Applications for New Uses—May 2022

AGENCY: Environmental Protection Agency (EPA).

ACTION: Notice.

SUMMARY: EPA has received applications to register new uses for pesticide products containing currently registered active ingredients. Pursuant to the Federal Insecticide, Fungicide, and Rodenticide Act (FIFRA), EPA is hereby providing notice of receipt and opportunity to comment on these applications.

DATES: Comments must be received on or before July 21, 2022.

ADDRESSES: Submit your comments, identified by docket identification (ID) number EPA-HQ-OPP-2022-0163, through the Federal eRulemaking Portal at https://www.regulations.gov. Follow the online instructions for submitting comments. Do not submit electronically any information you consider to be Confidential Business Information (CBI) or other information whose disclosure is restricted by statute. For the latest information on EPA/DC docket access, services and submitting comments, visit https://www.epa.gov/dockets.

FOR FURTHER INFORMATION CONTACT: Marietta Echeverria, Registration Division (RD) (7505P), main telephone number: (202) 566-2659, email address: RDFRNotices@epa.gov. The mailing address for each contact person is: Office of Pesticide Programs, Environmental Protection Agency, 1200 Pennsylvania Ave. NW, Washington, DC 20460-0001. As part of the mailing address, include the contact person's name, division, and mail code. The division to contact is listed at the end of each application summary.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at https://www.epa.gov/dockets/commenting-epa-dockets.

II. Registration Applications

EPA has received applications to register new uses for pesticide products containing currently registered active ingredients. Pursuant to the provisions of FIFRA section 3(c)(4) (7 U.S.C. 136a(c)(4)), EPA is hereby providing notice of receipt and opportunity to comment on these applications. Notice of receipt of these applications does not imply a decision by the Agency on these applications.

Notice of Receipt—New Uses

1. EPA File Symbol: 432-RAEE. Docket ID number: EPA-HQ-OPP-2022-0444. Applicant: Bayer Environmental Science, A Division of Bayer CropScience, 5000 Centregreen Way Suite 400, Cary, NC 27513. Active ingredient: Flupyradifurone. Product type: Insecticide. Proposed use: Indoor non-food & Indoor residential. Contact: RD.

2. EPA Registration Number: 7969-446,7969-445, 7969-474, and 7969-448. Docket ID number: EPA-HQ-OPP-2022-0424. Applicant: BASF Corporation, Agricultural Solutions, 26 Davis Drive, Research Triangle Park, North Carolina 27709. Active ingredient: Glufosinate ammonium. Product type: Herbicide. Proposed use: Tropical and subtropical, medium to large fruit, edible peel, subgroup 23B; tropical and subtropical, small fruit, inedible peel, subgroup 24A; tropical and subtropical, medium to large fruit, smooth, inedible peel, subgroup 24B; grass, forage and grass, hay. Contact: RD.

3. EPA Registration Numbers: 59639-230, 59639-233. Docket ID number: EPA-HQ-OPP-2021-0433. Applicant: Valent U.S.A. LLC, 4600 Norris Canyon Road, San Ramon, CA 94583. Active ingredient: Inpyrfluxam. Product type: Fungicide. Proposed use: Wheat (foliar). Contact: RD.

4. EPA Registration Numbers: 59639-231, 59639-233. Docket ID number: EPA-HQ-OPP-2021-0433. Applicant: Valent U.S.A. LLC, 4600 Norris Canyon Road, San Ramon, CA 94583. Active ingredient: Inpyrfluxam. Product type: Fungicide. Proposed Use: Cotton (seed treatment). Contact: RD.

5. EPA Registration Numbers: 59639-231, 59639-233. Docket ID number: EPA-HQ-OPP-2021-0833. Applicant: Valent U.S.A. LLC, 4600 Norris Canyon Road, San Ramon, CA 94583. Active ingredient: Inpyrfluxam. Product type: Fungicide. Proposed use: Seed treatment on rapeseed (crop subgroup 20A). Contact: RD.

6. EPA Registration Numbers: 67690-6, 67690-78. Docket ID number: EPA-HQ-OPP-2021-0787. Applicant: SePRO Corporation, 11550 North Meridian Street, Suite 600, Carmel, IN 46032. Active ingredient: Fluridone. Product type: Herbicide. Proposed use: Peanut. Contact: RD.

(Authority: 7 U.S.C. 136 et seq.)

Dated: June 10, 2022.
Delores Barber,
Director, Information Technology and Resources Management Division, Office of Program Support.

[FR Doc. 2022-13236 Filed 6-17-22; 8:45 am]

BILLING CODE 6560-50-P